DEPARTMENT OF TRANSPORTATION

Coast Guard

33 CFR Parts 175, 177, 179, 181, and 183

46 CFR Parts 2, 10, 15, 24, 25, 26, 28, 30, 70, 90, 114, 169, 175, 188, and 199

[USCG-1999-5040]

RIN 2115-AF69

Safety of Uninspected Passenger Vessels Under the Passenger Vessel Safety Act of 1993 (PVSA)

AGENCY: Coast Guard, DOT.

ACTION: Notice of proposed rulemaking.

SUMMARY: The Coast Guard proposes regulations that implement safety measures for uninspected passenger vessels under the Passenger Vessel Safety Act of 1993 (PVSA). This Act authorizes the Coast Guard to amend operating and equipment guidelines for uninspected passenger vessels over 100 gross tons, carrying 12 or less passengers for hire. These regulations will implement this new class of uninspected passenger vessel, provide for the issuance of special permits to uninspected vessels, and develop specific manning, structural fire protection, operating, and equipment requirements for a limited fleet of PVSA exempted vessels.

DATES: Comments and related material pertaining to 46 CFR 26.03-8 of this rulemaking must reach the Docket Management Facility on or before April 3, 2000. Comments and materials pertaining to the remaining portion of this rulemaking must reach the Docket Management Facility on or before May 31, 2000. Comments sent to the Office of Management and Budget (OMB) on collection of information must reach OMB on or before May 1, 2000.

ADDRESSES: To make sure your comments and related material are not entered in the docket more than once, please submit them by only one of the following means:

(1) By mail to the Docket Management Facility (USCG-1999-5040), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

You must also mail comments on collection of information to the Office of Information and Regulatory Affairs, Office of Management and Budget, 725 17th Street NW., Washington, DC 20503, ATTN: Desk Officer, U.S. Coast Guard.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this proposed rule, call Lieutenant Commander Michael A. Jendrossek, Office of Operating and Environmental Standards (G-MSO-2), Coast Guard, telephone 202-267-0836. For questions on viewing or submitting material to the docket, call Dorothy Walker, Chief, Dockets, Department of Transportation, telephone 202-366-9329.

SUPPLEMENTARY INFORMATION:

Request for Comments

We encourage you to participate in this rulemaking by submitting comments and related material. If you do so, please include your name and address, identify the docket number for this rulemaking (USCG-1999-5040), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½-by-11 inches, suitable for copying and electronic filing. If you submit them by mail and would like to know they reached the Facility, please enclose a stamped, self-addressed postcard or envelope. We will consider all comments and material received during the comment period. We may change this proposed rule in view of them.

Public Meeting

We do not now plan to hold a public meeting. But you may submit a request for one to the Docket Management Facility at the address under ADDRESSES explaining why one would be beneficial. If we determine that one would aid this rulemaking, we will hold one at a time and place announced by a later notice in the Federal Register.

Background and Purpose

Bareboat charter agreements have traditionally been used in the marine industry as a mechanism to allow long-term charterers the ability to assume operational control of a vessel. Under these charter agreements, the charterer assumes the rights and liabilities of ownership of the vessel. The charterer is usually responsible for conducting a pre-and post-charter survey of the vessel, hiring and firing the crew, and establishing the operational schedule of the vessel. Before 1993, the regulatory definitions of “passenger,” “guest,” and “consideration” inadvertently allowed individuals to create short-term vessel charter agreements in order to carry a large number of passengers. Any number of individuals could co-own a boat, like any other personal property. Also, they could carry guests onboard when a vessel was operated for pleasure. These conditions created an environment where a large number of people could be carried aboard an uninspected vessel under the auspice of ownership or recreation.

The Passenger Vessel Safety Act of 1993 (PVSA) (Pub. L 103-206) resolved this situation by clearly defining the following terms: “consideration,” “passenger,” “passenger vessel,” “small passenger vessel,” “uninspected passenger vessel,” “passenger-for-hire,” plus three other terms that are not part of this rulemaking. This would subject some formerly chartered vessels to Coast Guard inspection.

The PVSA also made several changes to the laws for vessels that carry passengers. First, the PVSA required a vessel of less than 100 gross tons to be inspected as a small passenger vessel if it is—

• Carrying more than six passengers, including at least one passenger-for-hire;

• Chartered with crew provided or specified by the owner or owner's representative and carrying more than six passengers;

• Chartered with no crew provided or specified by the owner or the owner's representative and carrying more than 12 passengers; or

• A submersible vessel carrying at least one passenger-for-hire.

Second, the PVSA provided exemption for certain vessels that were unable to meet inspection criteria. Sixteen vessels applied to the Coast Guard for and four were granted exemptions. The PVSA authorized the Coast Guard to develop specific operating and equipment requirements for these vessels.

Third, the PVSA broadened the definition of uninspected passenger vessel to include vessels of at least 100 gross tons carrying not more than 12 passengers, including at least one passenger-for-hire; or that are chartered with crew provided or specified by the owners or the owners' representatives and carrying not more than 12 passengers. These vessels are commonly referred to as 12-pack vessels.

Vessels of at least 100 gross tons that carry more than 12 passengers, at least one of which is for hire, must be inspected as passenger vessels under Title 46, Code of Federal Regulations (CFR) subchapter H.

Fourth, the PVSA directed the Coast Guard to develop regulations necessary to implement equipment, construction, and operating requirements for uninspected passenger vessels operating as 12-pack vessels.

Fifth, the PVSA authorized the Coast Guard to develop regulations to issue special permits to uninspected vessels, thus broadening authority from the now standard excursion permit for inspected vessels to include special permits for uninspected vessels. Special permits may be issued to an uninspected passenger vessel for charitable purposes up to a maximum of four times in a 12-month period. Special permits may also be issued to the owner or operator of a vessel that is a registered participant in an event that the Commandant, U.S. Coast Guard declares as a Marine Event of National Significance.

On September 30, 1994, the Coast Guard published Navigation and Vessel Inspection Circular (NVIC) No. 7-94 to provide compliance and enforcement guidance to Coast Guard members on implementing the provisions of the PVSA while detailed regulations were being developed. The NVIC addressed the statutory changes in detail, including one of the more significant changes requiring all chartered vessels carrying more than 12 passengers to be inspected by the Coast Guard. The PVSA allowed these vessels to apply for inspection with a phase-in period for compliance. The period for application expired on June 21, 1994, and the period for compliance expired on December 21, 1996. With widespread public notification, several hundred charter vessels applied for and met the conditions for certification with the requirements of the PVSA and policy guidance of the NVIC.

The NVIC also provided extensive guidance to Coast Guard Marine Safety field units on implementing the provisions of the new law. For those interested in viewing a copy of NVIC 7-94, it is available in this rulemaking docket as indicated under ADDRESSES and also on the Internet at www.uscg.mil/hq/g-m/nvic/index90.htm.

On April 1, 1999, the Coast Guard published an advance notice of proposed rulemaking (ANPRM) in the Federal Register (64 FR 15709), notifying the public of the intent of this rulemaking and requesting comments in several areas. A complete discussion of the comments follows.

Discussion of Comments

The Coast Guard received nine letters on the ANPRM. One letter provided answers to the 17 questions in the ANPRM. Comments from the other eight letters are summarized below.

One comment states that a second set of regulations should not be created for 12-pack vessels. We agree. The proposed requirements are an addition to existing regulations for uninspected passenger vessels, not a separate set.

One comment contends that safety equipment requirements for uninspected passenger vessels that are less than 100 gross tons operating as 6-packs are entirely appropriate for 12-pack vessels. It further states that people use the lifesaving equipment, so the size of the vessel being abandoned is not relevant. We disagree. Currently, an uninspected passenger vessel operating as a 6-pack vessel is only required to provide a Type I Personal Flotation Device (PFD) for each passenger, one ring buoy (for a vessel 26 feet in length and longer), and comply with recreational boating safety standards. An uninspected passenger vessel operating as a 6-pack, which can travel up to 100 miles offshore, is currently exempt from having to carry a 406 MHz Emergency Position Indicating Radio Beacon (EPIRB) or a survival craft (e.g., liferaft, life float, or buoyant apparatus). We determined that passenger safety is vastly improved by additional lifesaving equipment such as survival craft and EPIRBs.

The sinking of the M/V COUGAR in the Pacific Ocean off the coast of Oregon in September 1988 is an example of the type of incident that an uninspected passenger vessel can encounter. The COUGAR was a Coast Guard inspected small passenger vessel limited to a voyage of not more than 20 miles from a harbor of safe refuge because the master elected to have onboard a VHF/FM radio instead of a Class A EPIRB. On the day of the sinking, the COUGAR was operating as an uninspected passenger vessel (a 6-pack vessel), so the master could take a fishing charter of six passengers 50 miles offshore. Survivor testimony indicates that the master had trouble with the vessel's bilge system throughout most of the trip, and at the conclusion of the day's fishing, the vessel began to handle sluggishly due to accelerated flooding.

As the vessel began to sink, the master attempted to radio for help. Shore-based, search-and-rescue personnel did not receive the call, and there were no reports of radio contact from any of the vessels in the vicinity. The call for help was not answered. As water began washing over the decks at approximately 5:00 p.m., the passengers and crew abandoned the COUGAR. The only survival craft on the vessel was one buoyant apparatus, which helped people to stay together and afloat while they waited for rescue; however, it provided them no protection from exposure to the cold water.

The COUGAR was reported overdue to the Coast Guard at 9:30 p.m. that evening, after which the search began. There was limited information about where the COUGAR was going to fish that day, so a large search area was required. The search continued all night until a Coast Guard helicopter located the five survivors at 10:48 a.m. the next morning. Four persons, including the master and deckhand, died from hypothermia-related drownings while waiting for rescue.

We reviewed several incidents like this one to determine appropriate requirements for safety equipment on 12-pack vessels. We determined that a liferaft would more than likely have prevented the deaths attributed to exposure to the cold water. An EPIRB would have given the Coast Guard an immediate indication of distress and a signal to “home in” on when determining the vessel's location. This would have significantly reduced the hours between the occurrence of the incident and the start of the search-and-rescue operations. Therefore, we propose that 12-pack vessels have survival craft and a 406 MHz EPIRB onboard.

One comment states that the industry could not supply information and responses specific to the questions in the ANPRM since prior to the PVSA, the 12-pack classification did not exist for the industry to assess, and since PVSA, the underlying merchant mariner laws requiring crew rotation every 12 hours, has made it difficult for vessels to operate as 12-packs under the U.S. flag. The comment further contends that most vessels operating as 12-packs are doing so in foreign waters, under a foreign flag. In the commentator's opinion, there are no U.S.-flag vessels operating as 12-packs on a commercially crewed basis. We disagree. Participation in the 12-pack class is available to U.S.-flag vessels under NVIC 7-94. We determined that there are approximately 100 vessels operating in compliance with the NVIC. It is unlikely that a vessel owner or operator would opt to engage in an activity that holds no economic benefit.

One comment indicates that construction and structural standards for uninspected vessels, regardless of size, have been in place and have been used successfully by industry. The comment discourages imposing construction or structural requirements by regulation for 12-pack vessels and encourages adoption of some industry standard, at the discretion of the builder. At the present time, we do not propose construction standards or structural requirements for uninspected passenger vessels operating as 12-packs.

Two comments request that the Coast Guard provide the 12-pack fleet with relief from crew-rotation requirements currently required by 46 CFR 15.705, which requires vessels greater than 100 gross tons to have a three-watch system when at sea. We concur with these comments in part and have developed regulations to provide 12-pack vessels relief from security watches while a vessel is adequately moored, anchored, or otherwise secured in a harbor of safe refuge. An additional requirement is that a 12-pack vessel operating under these conditions may not exceed 12-hours underway time in any 24-hour period.

Two comments request that this new class of passenger vessel be exempted from load line requirements. We disagree. The purpose of a load line assignment is more than just establishing a “waterline” mark on the hull. Although this mark does impose a minimum freeboard that, in turn, establishes reserve buoyancy for the vessel, load line assignment also requires periodic surveys to verify the seaworthiness (e.g., weathertight and watertight integrity)of the vessel. Congress clearly understood this important purpose when it established the applicability provisions of the U.S. load line statutes codified in 46 U.S.C. chapter 51.

Commercial vessels more than 24 meters (79 feet) long that are engaged on international voyages must have an international load line assignment in accordance with the International Convention on Load lines, 1966 (as amended). In addition to its applicability to most commercial vessels, this also applies to yachts on charter and for vessels on voyages to trust territories (such as between the U.S. mainland and Puerto Rico, the U.S. Virgin Islands, Guam, etc.).

U.S. passenger vessels that are more than 100 gross tons, more than 24 meters (79 feet) long, and that operate solely on domestic voyages that cross outside the Boundary Line, are subject to U.S. load line requirements in accordance with 46 U.S.C. chapter 51 and 46 CFR parts 41 to 47 (subchapter E). In the legislative history to 46 U.S.C. chapter 51, Congress directly exempted “small passenger vessels” (less than 100 gross tons) from load lines with the reasoning that an equivalent level of safety could be established by regulations and Coast Guard inspection. All other vessels are subject to load line requirements. In the past, some large passenger vessels subject to subchapter H were able to evade load line requirements by an exception in their chartering arrangements. However, these vessels are now properly subject to the load line regulations.

One comment indicates that some vessel owners object to the load line mark itself for aesthetic reasons. The marks must normally be black (on light-colored hulls) or white (on dark-colored hulls), which may visually mar the color scheme of an elegant yacht. While researching the nature of the aesthetic objection, a suggestion was made that a vessel could still obtain a proper load line assignment but not actually have to mark the hull. The Coast Guard does not concur with this suggestion. We consider the hull marking to be a clear visual indication to port authorities that the vessel is subject to load line regulations and should be treated as such. However, we are sympathetic to the aesthetic concerns of the 12-pack industry. We propose to accept alternate colors for the load line marks on 12-pack vessels, provided there is an adequate level of contrast to the hull.

One comment suggests different options for the issuance of special permits. The question presented in the ANPRM was directed to see if persons were interested in participating in special permits, as prescribed by the PVSA. We agree with this comment and have developed a process where vessel operators may apply for special permits when operating their vessels under certain circumstances.

One comment suggests that the licensing requirement for 12-pack operators permitted by the NVIC be continued. This required mariners to hold operator of uninspected passenger vessel (OUPV) licenses to operate vessels of not more than 200 gross tons. The comment further suggested, in great detail, that a new five-tier license structure be instituted since a “one license fits all” philosophy is doing disservice to the mariner who operates at the low end of the classification scale. The comment also claims licensed applicants are required to digest extraneous information in order to obtain their licenses. This suggested structure would extend from a low level of OUPV of less than 16 feet to a motorboat of not more than 300 gross tons, limited to near coastal, oceans, Great Lakes or inland, carrying a maximum of 12 passengers. This comment also indicates changes to Table 10.910-2, “Subjects for deck licenses” commensurate with the licenses suggested.

The Coast Guard, where possible, is committed to implementing a simpler license structure. We contend that the bare minimum of solid professional knowledge required for the present OUPV license is worth achieving when six—now increased to 12—lives are in an operator's hands. We propose no change to the requirement for an OUPV license on a 6-pack vessel. For 12-pack vessels, we propose that operators hold a master's license of the appropriate tonnage, route, and restrictions for the service in which they will engage. We propose no modifications to Table 10.910-1 in response to this comment.

One comment calls for the issuance of an OUPV license to non-U.S. citizens regardless of the tonnage limitation. The Coast Guard disagrees with the suggestion of allowing unrestricted tonnage licenses for non-U.S. citizens. Title 46 CFR 10.466(f) allows issuance of an OUPV license, limited on its face to undocumented vessels, to a person who is not a citizen of the United States. Only vessels under five-net tons may be undocumented (this roughly equates to a boat of less than 25 feet). Title 46 U.S.C. 12110(d) states that a documented vessel, other than a vessel with only a recreational endorsement, must be placed under the command of a citizen of the United States. When a vessel carries passengers-for-hire, it is no longer “recreational” but “commercial.”

One comment recommends changes to the licensing structure for 12-pack vessels and reevaluation of the existing OUPV-license structure. Another suggests changes to the license examination subjects, license limitations, and vessels on which service is allowed. These comments are outside the scope of this rulemaking. Therefore, we forwarded them to the appropriate office for consideration.

One comment points out that the Social Security Administration now issues “tax numbers” to non-citizens instead of social security numbers and suggests that the Coast Guard accepts these numbers as equivalent to social security numbers. This comment is outside the scope of this rulemaking. Therefore, we forwarded the suggestion to the appropriate division at the Coast Guard's National Maritime Center.

One comment advises the Coast Guard to revamp the uninspected vessel regulations for all affected gross tonnage vessels. This comment is outside the scope of this rulemaking. Therefore, we forwarded it to the appropriate office for consideration.

Four comments involve issues about commercial fishing requirements versus 6-pack vessels. Concerns included the distance from shore that a 6-pack is permitted to operate, the safety equipment on board, safety drills, and crewing. The general request was for the Coast Guard to implement more stringent safety requirements on the 6-pack fleet. These comments are outside the scope of this rulemaking. Therefore, we forwarded them to the appropriate office for consideration. Some of the descriptions supporting these four comments indicate that the writer(s) may have witnessed violations to regulations. The Coast Guard strongly advises anyone witnessing a violation to report it to the local Coast Guard unit or Marine Safety Office without delay. If an incident goes unreported, appropriate action cannot be taken.

Discussion of Proposed Rule

We propose regulations that would change or add definitions, establish a new class of uninspected passenger vessel (12-pack vessel), expand the use of special permits, and establish operational and equipment requirements for PVSA-exempt vessels and 12-pack vessels.

(a) Definitions

We propose incorporating applicable definitions from 46 U.S.C. 2101 into 33 and 46 CFR. In addition, we propose adding certain definitions that will assist in clarification of different operating and equipment requirements that were not specified in the PVSA.

The following definitions are organized alphabetically rather than by section:

Boat. We would revise the definition of “boat” in 33 CFR 175.3, 177.03, 179.03, 181.3, and 183.3. The proposed change would revise the definition to include all uninspected passenger vessels subject to the requirements of 46 CFR subchapter C. This revision includes the new 12-pack class wherever the term “boat” is used.

Consideration. We propose adding the term “consideration” to 46 CFR 24.10 and 70.10 to mean an economic benefit, inducement, right, or profit given in exchange for passage on a vessel.

Oceans. We propose adding the term “oceans” to 46 CFR 24.10 to mean the waters of any ocean or the Gulf of Mexico more than 20-nautical miles offshore. This definition would clarify 12-pack requirements where the term “ocean” is used.

Passenger. We propose revising the definition of “passenger” in 33 CFR 175.3 and 46 CFR 24.10 and 167.107, and adding the definition to 46 CFR 28.10. This will align the use of the term “passenger” as defined by the PVSA and eliminate any confusion by deleting all reference to the previously used term “guest.”

Passenger-for-hire. We propose adding the term “passenger-for-hire” to 46 CFR 24.10 to mean a passenger who has provided consideration for passage on a vessel.

Passenger Vessel. We propose revising the definition of the term “passenger vessel” in 46 CFR 70.10 and adding it to 199.30. This revision would add to the list of affected vessels a submersible vessel that is carrying at least one passenger-for-hire.

Recreational Vessel. We propose amending the term “recreational vessel” in 33 CFR 175.3 to exclude all vessels carrying passengers-for-hire.

Small Passenger Vessel. We propose adding the term “small passenger vessel” to 46 CFR 199.30. As used in part 199, a “small passenger vessel” would be a vessel that is less than 100 gross tons. Therefore, a 12-pack vessel would not be considered a “small passenger vessel.”

Submersible vessel. We propose adding the term “submersible vessel” to 46 CFR 70.10, 114.400, 175.400, and 199.30 to mean a vessel that operates below the surface of the water.

Survival craft. We propose adding the term “survival craft” to 46 CFR 24.10 to mean any lifeboat, rigid liferaft, inflatable liferaft, life float, inflatable buoyant apparatus, buoyant apparatus, or small boat.

Underway. We propose adding the term “underway” to 46 CFR 15.301(a) to mean a vessel that is not anchored, made fast to shore, or aground. See the discussion of the 12-pack requirements for further implications to vessel operations due to this definition.

Uninspected passenger vessel. We propose adding the term “uninspected passenger vessel” to 46 CFR 24.10 to incorporate both 6-pack vessels and 12-pack vessels.

(b) 12-pack Requirements

The PVSA made a number of changes to the existing laws that required the implementation of immediate guidance to Coast Guard members on enforcement. To remedy this need, the Coast Guard published NVIC 7-94. We propose regulations that closely conform to the provisions for 12-pack vessels found in NVIC 7-94. In addition, we propose requirements for the areas where guidance was deferred until the rulemaking process. The portions of the PVSA that deal with inspection requirements for vessels regulated by 46 CFR subchapter T were incorporated through a previous rulemaking (61 FR 863, January 10, 1996).

We propose revising the application tables in 46 CFR, 2.01-7(a), 24.05-1(a), 30.01-5(d), 70.05-1(a), 90.05-1(a), and 188.05-1(a), that prescribe the appropriate operating subchapter under which a vessel is regulated. The tables were modified to incorporate the new class of uninspected passenger vessel (12-pack vessel), combine passenger vessel descriptions into one column, update the definition of the term “passenger,” and other minor editorial changes that add clarity to the tables without changing the technical requirements.

We propose revising 46 CFR 10.466 by requiring that the individual who operates a 12-pack vessel possesses a license appropriate for the tonnage, route, and restrictions for the service in which the vessel will engage. This requirement is different from the OUPV-license requirement under the NVIC. This upgrade to the license requirement will ensure that an operator of a 12-pack vessel possesses competency specific to the size of the vessel and the vessel's route. Since a 12-pack vessel must be a vessel of 100 gross tons or more, this license upgrade is necessary to provide adequate safety.

We are proposing to delete 46 CFR 26.03-5. Title 46 CFR Part 4 adequately deals with accident and casualty reporting and penalties. A single source for information will eliminate the confusion that had previously existed between regulation cites. We are also proposing to delete all references to foreign vessels contained in 46 CFR 169.103(a). This will bring the regulations into line with 46 USC 2101. Under 46 USC 2101 (30) and (36), foreign vessels are not included within the statutory definition of “sailing school vessel.”

We propose regulations that establish minimal equipment and operating requirements for 12-pack vessels. Because of the distance from shore that a 12-pack vessel can travel, we would require that all 12-pack vessels carry survival craft for all persons aboard the vessel, regardless of route, while the vessel is carrying at least one passenger-for-hire. We are also requesting additional comments on this requirement to ensure that the final regulation meets the needs of passenger safety while not being onerous to the industry.

We propose that all 12-pack vessels have on board a Category I 406 MHz Satellite EPIRB when operating three miles beyond the territorial sea baseline and beyond three miles from the coastline on the Great Lakes. The 406 MHz EPIRB is a distress-alerting device that provides information that there is a vessel emergency and the position of the vessel in distress. EPIRBs used in conjunction with survival craft greatly enhance the chances for survival if an emergency occurs.

We propose to expand 46 CFR 15.705 to include 12-pack vessels. This section provides relief from multiple-watch systems required by § 15.705 when a vessel is adequately moored, anchored, or otherwise secured in a harbor of safe refuge (reflected through the definition of the term “underway”). The Coast Guard proposes adding language to § 15.855, which requires cabin watchmen and fire patrolmen on vessels carrying passengers overnight. Uninspected passenger vessels of 100 gross tons or more but less than 300 gross tons operating as 12-packs may substitute the use of various alarms and detectors for security watches. Each alarm must have both an audible and visual indicator located at the normal operating station and, if the normal operating station is not continually manned when not underway, in an alternative location that provides the crew and passengers immediate warning. To comply with this section, the following conditions must be met:

(1) Fire detectors must be located in each space containing machinery or fuel tanks in accordance with 46 CFR 181.400(c).

(2) All grills, broilers, and deep-fat fryers must be fitted with a grease extraction hood in compliance with 46 CFR 181.425.

(3) Heat and/or smoke detectors must be located in each galley, public accommodation space, enclosed passageway, berthing space, and all crew spaces.

(4) High water alarms must be located in each space with a through hull fitting below the deepest load waterline, a machinery space bilge, bilge well, shaft alley bilge, or other space subject to flooding from sea water piping, or other space below the waterline with a non-watertight closure.

(5) The vessel must be navigating underway for no more than 12 hours in any 24-hour period, and the master of the vessel must have chosen to operate with less than a three-watch system in accordance with 46 CFR 15.705.

We do not propose construction standards for 12-pack vessels in this rulemaking. However, if we determine that construction standards for 12-pack vessels are necessary, we may incorporate them at a later date.

(c) Excursion Permits

We may permit an inspected passenger vessel to engage in a temporary excursion operation with a greater number of passengers or an extended route, or both, beyond that permitted by the vessel's Certificate of Inspection when the operation can be done safely. An excursion permit issued for a vessel normally requires the vessel to meet criteria for the additional persons as well as augment its lifesaving capacity and manning for the duration of the excursion. Current requirements for obtaining an excursion permit for an inspected passenger vessel are located in 46 CFR 71.10, 115.205, and 176.204.

The PVSA allows the Coast Guard to develop regulations for special permits for uninspected vessels in certain situations (as is currently done for inspected vessels) under the authority of 46 U.S.C. 2113. We propose implementing this allowance as stated in the PVSA. We propose the criteria for special permits for charitable purposes in 46 CFR 26.03-6 and Marine Events of National Significance in 46 CFR 26.03-8.

Title 46 CFR 26.03-6 would allow the owners or operators of uninspected passenger vessels to donate their vessels to charities for fundraising activities under the following conditions:

• The event must support a bona fide charity or non-profit organization qualified under section 501(c)(3) of the Internal Revenue Code of 1986.

• All donations received from the fundraising must go to the named charity.

• An owner or operator may not obtain more than four special permits for an individual vessel in each 12-month period.

If the owner or operator exceeds the number of passengers the vessel is permitted to carry, or if the vessel's activity would otherwise require it to be inspected, the owner or operator may apply for a special permit. Application must be made to the local Officer in Charge, Marine Inspection (OCMI) before the intended voyage. The administrative and inspection criteria contained in 46 CFR 176.204 would apply to the issuance of any special permit. The owner or operator must allow adequate time for processing and approval of the special permit, and the vessel must meet all applicable safety standards.

If the OCMI is satisfied with the level of safety for the excursion, with the number of passengers, the route requested, and if the vessel meets any additional requirements, a special permit may be issued. The special permit will indicate the conditions under which it is issued, the number of persons the vessel may carry, the crew required, any additional lifesaving or safety equipment required, and the route for which the permit is granted. Each special permit is valid for one voyage of a donated vessel used for a charitable event.

Title 46 CFR 26.03-8 would allow special permits to be issued to the owner, operator, or agent of any vessel operating as a registered participant in a Marine Event of National Significance. A Marine Event of National Significance is an event that has substantial political or public interest as well as economic impact within the United States. Examples of past Marine Events of National Significance are those that occurred in conjunction with the 1964 World's Fair, the Bicentennial Celebration in 1976, Liberty Weekend and the rededication of the Statue of Liberty in 1986, and the Christopher Columbus Quincentennial in 1992.

The Commandant, as operational commander of the U.S. Coast Guard, has the authority to designate marine events as nationally significant. Event sponsors must request this determination in writing from the Commandant (G-M)at least one year prior to the event.

Factors to be considered in the Commandant's evaluation may include, but are not limited to, the following:

• The number of port visits scheduled for the event.

• Whether there is a high degree of public interest.

• Whether there is the expressed political interest of a governing body.

• Whether there is an expressed international interest.

• Whether the event will promote maritime education, cultural exchange or international goodwill through the gathering of participating vessels.

• Whether the event is structured in a manner that provides enhanced safety for the registered participants.

If the evaluation results in a decision that a marine event is nationally significant, the owners, operators, or agents of a vessel registered as participants may apply for special permits to carry passengers for the duration of the event. The vessel's master, owner, or agent must apply to the Coast Guard Officer in Charge, Marine Inspection (OCMI), who has jurisdiction over the vessel's first port of call in the United States. The OCMI may issue a special permit if he or she determines that the vessel can safely participate in the event. The permit will state the conditions under which it is issued. These conditions may include—

• The number of passengers the vessel may carry;

• The lifesaving and safety equipment it must carry;

• The route for which the permit is granted;

• The dates for which the permit is valid; and

• Any other condition the OCMI deems necessary to ensure the safety of the vessel's passengers.

We propose revising 46 CFR 2.01-45 “Excursion Permit” to include these new provisions for uninspected passenger vessels and Marine Events of National Significance as well as to include reference to subchapters K and T vessels, which may also engage in excursions.

(d) OpSail 2000

On May 15, 2000 a Marine Event of National Significance, OpSail 2000, is scheduled to begin. In order to align our regulations to meet the requirements of this event, the Coast Guard intends to issue a final regulation for 46 CFR 26.03-8 prior to May 15. To meet this schedule, a 30-day comment period is being provided in accordance with section 553 of the Administrative Procedure Act. The public is encouraged to submit timely comments on this section under the procedures described at the beginning of this notice and to be aware that the Coast Guard intends to have an appropriate regulation in place for OpSail 2000. A 90-day comment period is provided for all the remaining provisions of this NPRM.

(e) Exempt Vessels

This part of the rulemaking contains proposed regulations for vessels that became subject to Coast Guard inspection for the first time as the result of the Passenger Vessel Safety Act of 1993. The PVSA contained an allowance for the exemption of certain passenger vessels that—

(1) Are at least 100 gross tons but less than 300 gross tons; or

(2) Are former public vessels of at least 100 gross tons but less than 500 gross tons; and

(3) Applied for an exemption before June 21, 1994 and complied with all exemption requirements by December 21, 1996.

This exemption was limited to existing vessels that were in charter operation before the enactment of the law. The majority of these vessels were constructed of materials, and are of such arrangement, that prohibit them from complying with passenger vessel regulations. Although the actual size and operation of these vessels are similar to small passenger vessels, and in most cases the inspection and manning regulations for small passenger vessels are more appropriate, these vessels have not taken advantage of tonnage reductions to bring their gross tonnages below 100.

The PVSA contains exemption criteria that authorized the Coast Guard to develop specific operating and equipment requirements for vessels that met these criteria. We propose regulations for PVSA-exempt vessels in 46 CFR 70.05-18 and 175.118. Vessel owners and operators must ensure that their vessels meet the requirements of either subchapter T or K, except where the provisions of subchapter H apply. These vessels must also meet any requirements the OCMI may deem applicable to the vessel.

These proposed regulations contain the stability requirements for the vessels. If a vessel does not meet these stability requirements, its operating route will be restricted, provided it has a history of safe operation on these waters. The OCMI may further restrict the vessel's route, if the vessel's service, condition, or other factors affect its seaworthiness and safety.

The proposed requirements state the number of passengers the vessel may carry. In addition, the vessel must be crewed in accordance with 46 CFR subchapter T. Vessel officers must be licensed for the appropriate vessel tonnage. Licensed engineers may be required if the vessel's tonnage is at least 200 gross tons. When carrying 50 or more passengers, additional documented merchant mariners would be required.

We propose requiring the vessel's owner or master to comply with the lifesaving requirements contained in 46 CFR part 180, except that inflatable liferafts are required for primary lifesaving. A rescue boat or suitable rescue arrangement must be provided to the satisfaction of the OCMI.

We propose requiring the vessel's owner or master to comply with the fire protection requirements of 46 CFR part 181, except where vessels must be fitted with portable extinguishers per the requirements of 46 CFR 76.50 and to the satisfaction of the OCMI. Vessels that fail to meet the fire protection and structural fire protection requirements of subchapter T or K must meet equivalent requirements to the satisfaction of the OCMI or the Coast Guard Marine Safety Center.

We propose requirements for at least two means of escape from spaces accessible to passengers or used by the crew on a regular basis, as provided for in 46 CFR 177.500 and 78.47-40.

Vessels meeting these requirements will receive a Certificate of Inspection that contains a PVSA exemption. The PVSA exemption is valid for the service life of the vessel, as long as the vessel remains certificated for passenger service. Currently there are four charter vessels greater than 100 gross tons that meet the exemption criteria and have the PVSA endorsement. If the Certificate of Inspection is surrendered or otherwise becomes invalid, the owner and operator must meet the appropriate inspection regulations to obtain a new Certificate of Inspection without the PVSA exemption.

We propose adding § 70.05-18 to subchapter H Passenger Vessels. This section will contain the applicability to vessels operating under an exemption afforded in the PVSA for passenger vessels over 100 gross tons.

Regulatory Evaluation

This proposed rule is not a “significant regulatory action” under section 3(f) of Executive Order 12866 and does not require an assessment of potential costs and benefits under section 6(a)(3) of that Order. The Office of Management and Budget has not reviewed it under that Order. It is not “significant” under the regulatory policies and procedures of the Department of Transportation (DOT)(44 FR 11040, February 26, 1979).

A draft Regulatory Evaluation under paragraph 10e of the regulatory policies and procedures of DOT follows:

The Coast Guard proposes regulations that implement safety measures for uninspected passenger vessels under the Passenger Vessel Safety Act of 1993 (PVSA). These regulations will address the confusion regarding bareboat charters, implement a new class of uninspected passenger vessels of at least 100 gross tons, provide for the issuance of special permits to certain uninspected passenger vessels, develop alternative requirements for a limited fleet of PVSA-exempted vessels, and provide for the issuance of special permits for vessels registered as participants in Marine Events of National Significance.

This rulemaking proposes that vessels of at least 100 gross tons that are currently operating as uninspected passenger vessels and carrying 12 or less passengers have (1) an Emergency Position Indicating Radio Beacon (EPIRB), (2) enough survival craft for all persons on board, and (3) an operator with the appropriate master-level license. These vessels will have to comply with these new requirements to continue operating. The Coast Guard estimates that vessels operating in this type of trade are already in compliance with the proposed survival craft and licensing requirements; however, they are not in compliance with the EPIRB requirement. The use of EPIRBs provides the Coast Guard quicker response time, quicker location of the casualty, and provides the Coast Guard more information prior to the rescue attempt. The 10-year, present value cost of complying with the EPIRB requirement is estimated to be $100,588.

This rulemaking creates a class of vessel (e.g., 12 pack) not previously in existence. If no vessel owner decides to enter this new class of vessel, the cost of this component of the rulemaking would be $0, as it is not a requirement for any existing vessel to enter this class. However, the Coast Guard estimates the owners of 570 vessels will choose to enter this class of vessel. The 10-year, present value cost of this non-mandatory component is $12,642,812. The Coast Guard considers the cost to be non-mandatory because owners are not required to enter this new class of vessel. While we have estimated the projected fleet size for this class of vessel, it is difficult for us to estimate the dollar value of the benefit accruing to the vessel owner. However, the vessel owner will look at his or her individual situation and only enter this new class if he or she perceives an economic benefit from entering.

Additionally, this rule affects uninspected vessels participating in Marine Events of National Significance. The Coast Guard will inspect the vessels not possessing the appropriate certification and issue special permits that allow these vessels to carry passengers during the event. Vessel owners will have an information request burden, as they must apply for permits. The 10-year, present value cost of this information collection request is $2,064. As participation in these events is not a requirement of the rulemaking, these costs are considered to be non-mandatory. There will be additional cost to the government due to inspections and travel. The 10-year present value of the additional cost to the government is estimated to be $75,111. The intent of this requirement is to provide a safer environment at Marine Events of National Significance. While there have been no notable past problems at such events, the Coast Guard is acting proactively to reduce the risk of marine casualties.

In summary, this rulemaking creates a new class of vessel and allows vessels not possessing the appropriate certification to participate in a Marine Event of National Significance if they pass a Coast Guard inspection. These are not requirements, so the costs associated with these changes are not counted in the total cost of the rulemaking. This rulemaking also requires uninspected passenger vessels greater than 100 gross tons and carrying 12 or less passengers to have (1) an Emergency Position Indicating Radio Beacon (EPIRB), (2) enough survival craft for all persons on board, and (3) an operator with the appropriate master-level license. Thus, the total 10-year present value cost of the requirements contained in this proposed rulemaking equals $100,588.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The only type of small entity that will be affected by this rulemaking is small business. While the size standards for the relevant Standard Industrial Classification (SIC) codes ¹ considers enterprises with 500 or less employees to be small businesses, making practically all owners in the 12-pack industry small entities, the only mandatory cost in this rulemaking is the cost of an EPIRB. We do not expect that owners of vessels of this size and type, whose cost ranges from about $100 thousand to about $5 million, will consider an additional cost of $1,000 for an EPIRB to be significant. In addition, since the useful life of an EPIRB is indefinite, the annualized cost for this item over the 10-year period of analysis is $110 ², which is even more likely to be insignificant. The Coast Guard is also allowing a 6-month phase-in period for vessels to comply with the requirement to carry an EPIRB on board.

¹ The relevant industries are Deep Sea Transportation of Passengers (4481) and Water Transportation of Passengers, N.E.C. (4489).

² Current, or 2000 dollars.

Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please consult Lieutenant Commander Michael A. Jendrossek, Office of Operating and Environmental Standards (G-MSO-2), telephone 202-267-1055.

Small businesses may send comments on the actions of Federal employees who enforce, or otherwise determine compliance with, Federal regulations to the Small Business and Agriculture Regulatory Enforcement Ombudsman and the Regional Small Business Regulatory Fairness Boards. The Ombudsman annually evaluates these actions and rates each agency's responsiveness to small business. If you wish to comment on actions by employees of the Coast Guard, dial 1-888-REG-FAIR (1-888-734-3247).

Collection of Information

This proposed rule would call for a collection of information under the Paperwork Reduction Act of 1995 (44 U.S.C. 3501-3520). As defined in 5 CFR 1320.3(c), “collection of information” comprises reporting, recordkeeping, monitoring, posting, labeling, and other, similar actions. The title and description of the information collections, a description of those who must collect the information, and an estimate of the total annual burden follows. The estimate covers the time for reviewing instructions, searching existing sources of data, gathering and maintaining the data needed, and completing and reviewing the collection.

Title: Vessel Inspection Related Forms and Posting Requirements Under Title 46 U.S. Code

Summary of The Collection of Information: This collection of information will be included under the current approved Office of Management and Budget (OMB) collection numbered 2115-0133 entitled Vessel Inspection Related Forms and Posting Requirements Under Title 46 U.S. Code.

Need for Information: The owners, operators, or agents of uninspected vessels participating in a Marine Event of National Significance must submit an application for excursion permits.

Proposed Use of The Information: Applications will be used to initiate the inspection process to determine whether these vessels are properly equipped to be granted the excursion permit.

Description of Respondents: The respondents are owners or operators of uninspected vessels participating in a Marine Event of National Significance.

Number of Respondents: The Coast Guard estimates that owners of approximately 175 vessels will require and apply for permits at Marine Events of National Significance in 2000.

Frequency of Response: The permits are only valid for the duration of the event. We estimate that the vessels that require these permits will only attend one Marine Event of National Significance in 2000. We further estimate that these events occur approximately once every 10 years.

Burden of Response: The time burden of this response request in 2000 is 43 hours for industry and 1080 hours for the government. The total cost of these burdens is $2,064 for industry and $75,111 for the government.

Estimate of Total Annual Burden: Since we estimate that Marine Events of National Significance will occur approximately every 10 years, the total annual burden is the total burden reported above divided by 10. The annual time burden for industry is four hours and the annual time burden for government is 108 hours. The annual cost of these respective burdens is $206 for industry and $7,511 for the government.

As required by the Paperwork Reduction Act of 1995 (44 U.S.C. 3507(d)), we have submitted a copy of this proposed rule to the Office of Management and Budget (OMB) for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. Before the requirements for this collection of information become effective, we will publish notice in the Federal Register of OMB's decision to approve, modify, or disapprove the collection.

Federalism Summary Impact Statement

We have analyzed this proposed rule under Executive Order 13132, Federalism.

It is well settled that States are precluded from regulating in the categories of vessel design, construction, and equipment—categories that are reserved for regulation by the Coast Guard under 46 U.S.C. 3306 and 3703(a). See Ray v. Atlantic Richfield Co., 435 U.S. 151 (1978), which clearly evidences Congressional intent to preempt State law, because the exercise of State authority would conflict with the exercise of Federal authority under Federal statute. Also see International Association of Independent Tank Vessel Owners (Intertanko) v. Locke, 148 F.3d 1053 (9th Cir. 1998). Further, it is the position of the United States that all of the categories covered in 46 U.S.C. 3306 and 3703(a), 7101, and 8101 (e.g., design, construction, alteration, repair, maintenance, operation, equipping, personnel qualification, and manning of vessels) are within the field foreclosed from State regulation. See the Brief for the United States at 26, United States v. Locke; Intertanko v. Locke (Nos. 98-1701 and 98-1706) (cert. granted 120 S. Ct. 133), available in LEXIS, Genfed Library, Briefs file. This rule falls into the above mentioned categories, thereby precluding state regulation. For this reason, consultation under section 6 of the Executive Order would not be meaningful and, therefore, is unnecessary.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (34)(c), (d), and (e) of Commandant Instruction M16475.lC, this rule is categorically excluded from further environmental documentation. This proposed rule will not result in any significant cumulative impact on the human environment; any substantial controversy or substantial change to existing environmental conditions; any impact, which is more than minimal, on properties protected under 4(f) of the DOT Act, as superseded by Public Law 97-449 and Section 106 of the National Historic Preservation Act; or any inconsistencies with any Federal, State, or local laws or administrative determinations relating to the environment. A “Categorical Exclusion Determination” is available in the docket where indicated under ADDRESSES.

List of Subjects

33 CFR Part 175

Marine safety.

33 CFR Part 177

Marine safety.

33 CFR Part 179

Marine safety, Reporting and recordkeeping requirements.

33 CFR Part 181

Labeling, Marine safety, Reporting and recordkeeping requirements.

33 CFR Part 183

Marine safety.

46 CFR Part 2

Marine safety, Reporting and recordkeeping requirements, Vessels.

46 CFR Part 10

Reporting and recordkeeping requirements, Schools, Seamen.

46 CFR Part 15

Reporting and recordkeeping requirements, Seamen, Vessels.

46 CFR Part 24

Marine safety.

46 CFR Part 25

Fire prevention, Marine safety, Reporting and recordkeeping requirements.

46 CFR Part 26

Marine safety, Penalties, Reporting and recordkeeping requirements.

46 CFR Part 28

Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 70

Marine safety, Passenger vessels, Reporting and recordkeeping requirements.

46 CFR Part 90

Cargo vessels, Marine safety.

46 CFR Part 114

Marine safety, Passenger vessels, Reporting and recordkeeping requirements.

46 CFR Part 169

Fire prevention, Marine safety, Reporting and recordkeeping requirements, Schools, Vessels.

46 CFR Part 175

Marine safety, Passenger vessels, Reporting and recordkeeping requirements.

46 CFR Part 188

Marine safety, Oceanographic research vessels.

46 CFR Part 199

Lifesaving appliances and arrangements Marine safety, and Passenger vessels.

For the reasons discussed in the preamble, the Coast Guard proposes to amend 33 CFR Parts 175, 177, 179, 181, and 183 as well as 46 CFR Parts 2, 10, 15, 24, 25, 26, 28, 30, 70, 90, 114, 169, 175, 188, and 199 as follows:

33 CFR Chapter I

PART 175—EQUIPMENT REQUIREMENTS

1. The authority citation for part 175 continues to read as follows:

Authority: 46 U.S.C. 4302; 49 CFR 1.46.

2. In § 175.3, revise the definition of the following terms, in alphabetical order, to read as follows:

§ 175.3 Definitions.

* * * * *

Boat means any vessel—

(1) Manufactured or used primarily for noncommercial use;

(2) Leased, rented, or chartered to another for the latter's noncommercial use; or

(3) Operating as an uninspected passenger vessel subject to the requirements of 46 CFR chapter I, subchapter C.

* * * * *

Passenger means an individual carried on a vessel except—

(1) The owner or an individual representative of the owner or, in the case of a vessel chartered without crew, an individual charterer, or an individual representative of the charterer;

(2) The master or operator of a recreational vessel; or

(3) A member of the crew engaged in the business of the vessel, who has not contributed consideration for carriage, and who is paid for onboard services.

* * * * *

Recreational vessel means any vessel being manufactured or operated primarily for pleasure, or leased, rented, or chartered to another for the latter's pleasure. It does not include a vessel engaged in the carriage of passengers-for-hire as defined in 46 CFR chapter I, subchapter C or in other subchapters of this title.

* * * * *

3. Revise § 175.110(a) to read as follows:

§ 175.110 Visual distress signals required.

(a) No person may use a boat 16 feet or more in length, or any boat operating as an uninspected passenger vessel subject to the requirements of 46 CFR chapter I, subchapter C, unless visual distress signals selected from the list in § 175.130 or the alternatives in § 175.135, in the number required are on board. Devices suitable for day use and devices suitable for night use, or devices suitable for both day and night use, must be carried.

* * * * *

PART 177—CORRECTION OF ESPECIALLY HAZARDOUS CONDITIONS

4. The authority citation for part 177 continues to read as follows:

Authority: 46 U.S.C. 4302, 4311; 49 CFR 1.45 and 1.46.

5. Revise § 177.03(b) to read as follows:

§ 177.03 Definitions.

* * * * *

(b) Boat means any vessel—

(1) Manufactured or used primarily for noncommercial use;

(2) Leased, rented, or chartered to another for the latter's noncommercial use; or

(3) Operated as an uninspected passenger vessel subject to the requirements of 46 CFR Chapter I, subchapter C.

* * * * *

PART 179—DEFECT NOTIFICATION

6. The authority citation for part 179 continues to read as follows:

Authority: 43 U.S.C. 1333; 46 U.S.C. 4302, 4307, 4310, and 4311; 49 CFR 1.46.

7. In § 179.03, revise the definition of the term “Boat” to read as follows:

§ 179.03 Definitions.

* * * * *

Boat means any vessel—

(1) Manufactured or used primarily for noncommercial use;

(2) Leased, rented, or chartered to another for the latter's noncommercial use; or

(3) Operated as an uninspected passenger vessel subject to the requirements of 46 CFR chapter I, subchapter C.

* * * * *

PART 181—MANUFACTURER REQUIREMENTS

8. The authority citation for part 181 continues to read as follows:

Authority: 46 U.S.C. 4302 and 4310; 49 CFR 1.46.

9. In § 181.3, revise the definition of the term “Boat” to read as follows:

§ 181.3 Definitions.

* * * * *

Boat means any vessel—

(1) Manufactured or used primarily for noncommercial use;

(2) Leased, rented, or chartered to another for the latter's noncommercial use; or

(3) Operated as an uninspected passenger vessel subject to the requirements of 46 CFR chapter I, subchapter C.

* * * * *

PART 183—BOATS AND ASSOCIATED EQUIPMENT

10. The authority citation for part 183 continues to read as follows:

Authority: 46 U.S.C. 4302; 49 CFR 1.46.

11. In § 183.3, revise the definition of the term “Boat” to read as follows:

§ 183.3 Definitions.

* * * * *

Boat means any vessel—

(1) Manufactured or used primarily for noncommercial use;

(2) Leased, rented, or chartered to another for the latter's noncommercial use; or

(3) Operated as an uninspected passenger vessel subject to the requirements of 46 CFR chapter I, subchapter C.

* * * * *

46 CFR Chapter I

PART 2—VESSEL INSPECTIONS

12. The authority citation for part 2 continues to read as follows:

Authority: 33 U.S.C. 1903; 43 U.S.C. 1333; 46 U.S.C. 3103, 3205, 3306, 3703; E.O. 12234, 45 FR 58801, 3 CFR, 1980 Comp., p. 277; 49 CFR 1.46; subpart 2.45 also issued under the authority of Act Dec. 27, 1950, Ch. 1155, secs. 1, 2, 64 Stat. 1120 (see 46 U.S.C. App. Note prec.1).

13. In § 2.01-7, redesignate table 2.01-7(A) as table 2.01-7(A) and revise it to read as follows:

§ 2.01-7 Classes of vessels (including motorboats) examined or inspected and certificated.

(a) * * *

BILLING CODE 4910-15-U

BILLING CODE 4910-15-C

14. Revise § 2.01-45 to read as follows:

§ 2.01-45 Excursion Permit.

(a) Under 46 U.S.C. 2113, the Coast Guard may issue a permit to the owner, operator, or agent of a passenger vessel, allowing the vessel to engage in excursions that carry additional numbers of passengers, extend an existing route, or both. Details concerning the application process for excursion permits for inspected passenger vessels are contained in §§ 71.10, 115.204, or 176.204 of this chapter. Details concerning the application process for special permits for uninspected passenger vessels are contained in § 26.03-6 of this chapter.

(b) For Marine Events of National Significance, as determined by the Commandant, U.S. Coast Guard, a vessel may be permitted to engage in these events while carrying passengers-for-hire for the duration of the event. Event sponsors must request this determination in writing from the Commandant (G-M) at least one year prior to the event. Details concerning the application process for special permits for Marine Events of National Significance are contained in § 26.03-8 of this chapter.

(c) The application for an excursion permit is made by the master, owner, or agent of the vessel to the Officer in Charge, Marine Inspection, on Coast Guard Form CG-950, Application for Excursion Permit. If, after inspection, permission is granted, it is given on Coast Guard form CG-949, Permission to Carry Excursion Party. The permit describes the vessel, the route over which and the period during which the excursions may be made, and the safety equipment required for the additional persons indicated.

PART 10—LICENSING OF MARITIME PERSONNEL

15. The authority citation for part 10 continues to read as follows:

Authority: 31 U.S.C. 9701, 46 U.S.C. 2101, 2103, 2110; 46 U.S.C. Chapter 71; 46 U.S.C. 7502, 7505, 7701; 49 CFR 1.45, 1.46; Sec. 10.107 also issued under the authority of 44 U.S.C. 3507.

16. Revise § 10.466(a) to read as follows:

§ 10.466 Licenses for operators of uninspected passenger vessels.

(a) This section applies to all applicants for a license to operate an uninspected passenger vessel, equipped with propulsion machinery of any type.

(1) Individuals operating an uninspected passenger vessel less than 100 gross tons must meet the qualifications for the operator of uninspected passenger vessel license listed in this section.

(2) Individuals operating an uninspected passenger vessel of at least 100 gross tons must meet the qualifications for the master's license appropriate for the vessel tonnage, route, and restrictions for the service in which they will engage.

(3) Individuals operating an uninspected vessel of at least 200 gross tons must meet the qualifications for the master or mate license appropriate for the tonnage, route, and restrictions for the service in which they will engage.

* * * * *

PART 15—MANNING REQUIREMENTS

17. The authority citation for part 15 continues to read as follows:

Authority: 46 U.S.C. 2101, 2103, 3306, 3703, 8101, 8102, 8104, 8105, 8301, 8304, 8502, 8503, 8701, 8702, 8901, 8902, 8903, 8904, 8905(b), 9102; 49 CFR 1.45 and 1.46.

18. In § 15.301(a), add, in alphabetical order, the term “Underway” to the list of definitions, to read as follows:

§ 15.301 Definitions of terms used in this part.

(a) * * *

Underway means that a vessel is not at anchor, made fast to the shore, or aground.

* * * * *

19. Revise § 15.605 to read as follows:

§ 15.605 Licensed operators for uninspected passenger vessels.

Each self-propelled, uninspected passenger vessel must be under the direction and control of an individual licensed by the Coast Guard.

20. Add § 15.705(f) to read as follows:

§ 15.705 Watches.

* * * * *

(f) Properly manned uninspected passenger vessels of at least 100 gross tons—

(1) Which are underway for no more than 12 hours in any 24-hour period, and which are adequately moored, anchored, or otherwise secured in a harbor of safe refuge for the remainder of that 24-hour period may operate with one navigational watch;

(2) Which are underway greater than 12 hours in any 24-hour period must provide a minimum of a two-watch system;

(3) In no case may the crew of any watch work more than 12 hours in any 24-hour period, except in an emergency.

21. Add § 15.805(a)(6) to read as follows:

§ 15.805 Master.

(a) * * *

(6) Every uninspected passenger vessel of at least 100 gross tons.

* * * * *

22. Add § 15.855(c) to read as follows:

§ 15.855 Cabin watchmen and fire patrolmen.

* * * * *

(c) For the watchmen described in paragraph (a), the owner or operator of an uninspected passenger vessel of at least 100 gross tons but less than 300 gross tons may substitute the use of fire detectors, heat detectors, smoke detectors, and high-water alarms with audible- and visual-warning indicators, in addition to other required safety alarms, only when each of the following conditions are met:

(1) Fire detectors are located in each space containing machinery or fuel tanks in accordance with § 181.400(c) of this chapter.

(2) All grills, broilers, and deep-fat fryers are fitted with a grease extraction hood in compliance with § 181.425 of this chapter.

(3) Heat and/or smoke detectors are located in each galley, public accommodation space, enclosed passageway, berthing space, and all crew spaces.

(4) High water alarms are located in each space with a through hull fitting below the deepest load waterline, a machinery space bilge, bilge well, shaft alley bilge, or other space subject to flooding from sea water piping within the space, and a space below the waterline with non-watertight closure such as a space with a non-watertight hatch on the main deck.

(5) Each alarm has an audible- and visual-alarm indicator located at the normal operating station and, if the normal operating position is not continually manned when not navigating underway, in an alternate location that must provide the crew, and may at all times provide the passengers, immediate warning of a hazardous condition.

(6) The vessel is underway for no more than 12 hours in any 24-hour period, and the master of the vessel has chosen to operate with less than a three-watch system in accordance with § 15.705.

23. Revise § 15.905 to read as follows:

§ 15.905 Uninspected passenger vessels.

(a) An individual holding a license as master or pilot of an inspected, self-propelled vessel is authorized to serve as operator of an uninspected passenger vessel, within any restrictions on the individual's license.

(b) An individual holding a license as mate of inspected, self-propelled vessels, other than Great Lakes, inland, or river vessels of not more than 200 gross tons, is authorized to serve as operator of uninspected passenger vessels within any restrictions on the individual's license.

PART 24—GENERAL PROVISIONS

24. The authority citation for part 24 continues to read as follows:

Authority: 46 U.S.C. 2113, 3306, 4104, 4302; E.O. 12234, 45 FR 58801, 3 CFR, 1980 Comp., p. 277; 49 CFR 1.46.

25. In § 24.05-1, revise table 24.05-1(a) to read as follows:

§ 24.05-1 Vessels subject to the requirements of this subchapter.

(a)* * *

BILLING CODE 4910-15-U

BILLING CODE 4910-15

26. Revise subpart 24.10 to read as follows:

Subpart 24.10—Definition of Terms Used in This Subchapter

Sec.

24.10-1 Definitions.

§ 24.10-1 Definitions.

Approved means approved by the Commandant, unless otherwise stated.

Barge means a non-self-propelled vessel.

Carrying freight for hire means the carriage of any goods, wares, or merchandise, or any other freight for a consideration, whether directly or indirectly flowing to the owner, charterer, operator, agent, or any other person interested in the vessel.

Coast Guard District Commander means an officer of the Coast Guard designated as such by the Commandant to command all Coast Guard activities within his or her district, which includes the inspection, enforcement, and administration of Subtitle II, Title 46 U.S. Code, Title 46 and Title 33 U.S. Code, and regulations issued under these statutes.

Commandant means the Commandant of the United States Coast Guard.

Consideration means an economic benefit, inducement, right, or profit, including pecuniary payment accruing to an individual, person, or entity but not including a voluntary sharing of the actual expenses of the voyage, by monetary contribution or donation of fuel, food, beverage, or other supplies.

Headquarters means the Office of the Commandant, United States Coast Guard, Washington, DC.

International voyage means a voyage from a country to which the present convention applies to a port outside such country, or conversely.

Marine inspector or inspector means any person from the civilian or military branch of the Coast Guard assigned under the direction of an Officer in Charge, Marine Inspection, or any other person designated to perform duties related to the inspection, enforcement, and administration of Subtitle II, Title 46 U.S. Code, Title 46 and Title 33 U.S. Code, and regulations issued under these statutes.

Motor vessel means any vessel more than 65 feet in length, which is propelled by machinery other than steam.

Motorboat means any vessel indicated in column five of Table 24.05-1(a) in § 24.05-1, 65 feet in length or less, which is equipped with propulsion machinery (including steam). The length must be measured from end-to-end over the deck, excluding sheer. This term includes a boat equipped with a detachable motor. For the purpose of this subchapter, motorboats are included under the term vessel, unless specifically noted otherwise.

(1) The various length categories of motorboats are as follows:

(i) Any motorboat less than 16 feet in length.

(ii) Any motorboat 16 feet or over and less than 26 feet in length.

(iii) Any motorboat 26 feet or over and less than 40 feet in length.

(iv) Any motorboat 40 feet or over and not more than 65 feet in length.

(2) The expression “length must be measured from end-to-end over the deck excluding sheer” means a straight-line measurement of the overall length from the foremost part of the vessel to the aftermost part of the vessel, measured parallel to the centerline. Bow sprits, bumpkins, rudders, outboard motor brackets, and similar fittings or attachments, are not to be included in the measurement. Length must be stated in feet and inches.

Oceans means a route that goes beyond 20-nautical miles offshore on any of the following waters:

(1) Any ocean.

(2) The Gulf of Mexico.

(3) The Caribbean Sea.

(4) The Bering Sea.

(5) The Gulf of Alaska.

(6) Such other similar waters as may be designated by a Coast Guard District Commander.

Officer in Charge, Marine Inspection or OCMI means any person from the civilian or military branch of the Coast Guard designated as such by the Commandant and who, under the direction of the Coast Guard District Commander, is in charge of an inspection zone for performance of duties related to the inspection, enforcement, and administration of Subtitle II, Title 46 U.S. Code, Title 46 and Title 33 U.S. Code, and regulations issued under these statutes.

Passenger means an individual carried on a vessel, except—

(1) The owner or an individual representative of the owner, or in the case of a vessel under charter, an individual charterer or individual representative of the charterer;

(2) The master; or

(3) A member of the crew engaged in the business of the vessel, who has not contributed consideration for carriage, and who is paid for onboard services.

Passenger-for-hire means a passenger for whom consideration is contributed as a condition of carriage on the vessel, whether directly or indirectly flowing to the owner, charterer, operator, agent, or any other person having an interest in the vessel.

Survival craft means a lifeboat, rigid liferaft, inflatable liferaft, life float, inflatable buoyant apparatus, buoyant apparatus, or small boat.

Vessel, as used in this subpart includes all vessels indicated in column five of Table 24.05-1(a) in § 24.05-1, unless otherwise noted in this subpart.

Uninspected passenger vessel means an uninspected vessel—

(1) Of at least 100 gross tons;

(i) Carrying not more than 12 passengers, including at least one passenger-for-hire; or

(ii) That is chartered with the crew provided or specified by the owner or the owner's representative and carrying not more than 12 passengers; and

(2) Of less than 100 gross tons;

(ii) Carrying not more than six passengers, including at least one passenger-for-hire; or (2) That is chartered with the crew provided or specified by the owner or the owner's representative and carrying not more than six passengers.

PART 25—REQUIREMENTS

27. The authority citation for part 25 continues to read as follows:

Authority: 33 U.S.C. 1903(b); 46 U.S.C. 3306, 4302; 49 CFR 1.46.

28. Revise § 25.25-5(d) to read as follows:

§ 25.25-5 Life Preservers and other lifesaving equipment required.

* * * * *

(d) In addition to the equipment required by paragraph (b) and (c) of this section, each vessel 26 feet in length or longer must have at least one approved ring life buoy, and each uninspected passenger vessel of at least 100 gross tons must have at least three ring life buoys. Ring life buoys must be constructed in accordance with subpart 160.050 of part 160 of this chapter. The exception is a ring life buoy that was approved prior to May 9, 1979, under former subpart 160.009 of part 160 this chapter (see 46 CFR Chapter I, revised as of October 1, 1979), which may be used as long as it is in good and serviceable condition.

* * * * *

29. Add § 25.25-17 to read as follows:

§ 25.25-17 Survival craft requirements for uninspected passenger vessels of at least 100 gross tons.

(a) Each uninspected passenger vessel of at least 100 gross tons must have adequate survival craft with enough capacity for all persons aboard, and must meet one of the following requirements:

(1) An inflatable liferaft must be approved under 46 CFR part 160, subpart 160.151 and be equipped with an applicable equipment pack or be approved by another standard specified by the Commandant.

(2) A life float must be approved under 46 CFR part 160, subpart 160.027 or other standard specified by the Commandant.

(3) An inflatable buoyant apparatus must be approved under 46 CFR part 160, subpart 160.010 or other standard specified by the Commandant.

(4) A buoyant apparatus must be approved under 46 CFR part 160, subpart 160.010 or other standard specified by the Commandant.

(b) If the vessel carries a small boat or boats, the capacity of the small boat or boat(s) may be counted toward the survival craft capacity required by this part. Such small boat or boat(s) must meet the requirements for safe loading and floatation in 33 CFR part 183.

30. Add § 25.25-19 to read as follows:

§ 25.25-19 Visual distress signals.

Each uninspected passenger vessel must meet the visual distress signal requirements of 33 CFR part 175 applicable to the vessel.

31. Revise § 25.26-10 to read as follows:

§ 25.26-10 EPIRB requirements for uninspected passenger vessels.

(a) Uninspected passenger vessels less than 100 gross tons are not required to carry an EPIRB.

(b) The owner, operator, or master of an uninspected passenger vessel of at least 100 gross tons must ensure that the vessel does not operate beyond three miles from shore as measured from the territorial sea baseline seaward or more than three miles from the coastline of the Great Lakes, unless it has on board a float-free, automatically activated Category 1 406 MHz EPIRB stowed in a manner so that it will floatfree if the vessel sinks.

32. In § 25.30-20, redesignate paragraphs (b) and (c) as paragraphs (c) and (d), respectively, and add a new paragraph (b) to read as follows:

§ 25.30-20 Fire extinguishing equipment required.

* * * * *

(b) Uninspected passenger vessels of at least 100 gross tons. All uninspected passenger vessels of at least 100 gross tons must carry on board hand portable and semi-portable fire extinguishers in compliance with Table 76.50-10(A) in § 76.50-10 of this chapter.

* * * * *

PART 26—OPERATIONS

33. The authority citation for part 26 continues to read as follows:

Authority: 46 U.S.C. 3306, 4104, 6101, 8105; E.O. 12234, 45 FR 58801, 3 CFR, 1980 Comp., p. 277; 49 CFR 1.46.

34. Revise § 26.03-1(a) introductory text to read as follows:

§ 26.03-1 Safety orientation.

(a) Before getting underway on any uninspected passenger vessel, the operator or master must ensure that suitable public announcements, instructive placards, or both, are provided in a manner that affords all passengers the opportunity to become acquainted with:

* * * * *

35. Revise § 26.03-2(a) to read as follows:

§ 26.03-2 Emergency instructions.

(a) The operator or master of each uninspected passenger vessel must ensure that an emergency check-off list is posted in a prominent and accessible place to notify the passengers and remind the crew of precautionary measures that may be necessary if an emergency situation occurs.

* * * * *

36. Add § 26.03-4 to read as follows:

§ 26.03-4 Charts and nautical publications.

(a) Each uninspected passenger vessel of at least 100 gross tons must carry adequate, up-to-date, and appropriate for their intended voyage—

(1) Charts of appropriate scale to make safe navigation possible;

(2) U.S. Coast Pilot or similar publication;

(3) Coast Guard Light List;

(4) Tide tables; and

(5) Current tables, or a river current publication issued by the U.S. Army Corps of Engineers, or a river authority.

(b) As an alternative, you may substitute extracts or copies from the publications in paragraph (a). This information must be applicable to the area transited.

37. Add § 26.03-6 to read as follows:

§ 26.03-6 Special permit.

(a) If the owner, operator, or agent donates the use of an uninspected passenger vessel to a charity for fundraising activities, and the vessel's activity would subject it to Coast Guard inspection, the OCMI may issue a special permit to the owner, operator, or agent for this purpose if, in the opinion of the OCMI, the vessel can be safely operated. Each excursion permit is valid for only one voyage of a donated vessel, which is used for a charitable purpose. Applications are considered and approved on a case-by-case basis.

(b) The criteria of § 176.204 of this chapter will apply to the issuance of a special permit. In addition, the owner, operator, or agent must meet each of these conditions—

(1) Any charity using a donated vessel must be a bona fide charity or a non-profit organization qualified under section 501(c)(3) of the Internal Revenue Code of 1986;

(2) All donations received from the fundraising must go to the named charity;

(3) The owner, operator, or agent may obtain a special permit for an individual vessel not more than four times in a 12-month period; and

(4) The owner, operator, or agent must apply to the local OCMI for a special permit prior to the intended voyage, allowing adequate time for processing and approval of the permit.

(c) Nothing in this part may be construed as limiting the OCMI from making such tests and inspections, both afloat and in dry-dock, that are reasonable and practicable to be assured of the vessel's seaworthiness and safety.

§ 26.03-5 [Removed]

38. Remove § 26.03-5.

39. Add § 26.03-8 to read as follows:

§ 26.03-8 Marine event of national significance special permits.

(a) For Marine Events of National Significance, as determined by the Commandant, U.S. Coast Guard, a vessel may be permitted to engage in these events while carrying passengers-for-hire for the duration of the event. Event sponsors must request this determination in writing from the Commandant (G-M) at least one year prior to the event.

(b) The owner, operator, or agent of a vessel that has registered as a participant in Marine Events of National Significance, may apply for a special permit to carry passengers for the duration of the event. The master owner, or agent of the vessel must apply to a Coast Guard OCMI who has jurisdiction over the vessel's first United States port of call. The OCMI may issue a Form CG-949 “Permit to Carry Excursion Party” if in the opinion of the OCMI the operation can be undertaken safely. The OCMI may require an inspection prior to issuance of a special permit.

(c) The permit will state the conditions under which it is issued. These conditions must include the number of passengers the vessel may carry, the crew required, the number and type of lifesaving and safety equipment required, the route, and operating details for which the permit is issued, and the dates for which the permit will be valid.

(d) The permit must be displayed in a location visible to passengers.

40. Revise § 26.03-10 to read as follows:

§ 26.03-10 Voyage plans for uninspected passenger vessels of at least 100 gross tons.

(a) The master must prepare a voyage plan that includes a crew and passenger list before taking an uninspected passenger vessel of at least 100 gross tons on a Great Lake, an ocean, or an international voyage.

(b) Before departure, the master must communicate the voyage plan ashore, either verbally or in writing. The voyage plan must go to either the vessel's normal berthing location or a representative of the owner or managing operator of the vessel. The master, owner, or operator of the vessel must make the voyage plan available to the Coast Guard upon request.

41. Add § 26.03-12 to read as follows:

§ 26.03-12 Signaling light.

All vessels of over 150 gross tons, when on an international voyage, shall be equipped with an efficient daylight signaling lamp in accordance with the requirements of subchapter J (Electrical Engineering) of this chapter.

Subpart 26.20—Exhibition of Coast Guard License.

42-43. In subpart 26.20, revise the subpart heading to read as set forth above.

44. Revise § 26.20-1 to read as follows:

§ 26.20-1 Must be available.

If a person operates a vessel that carries one or more passengers-for-hire, he or she is required to have a valid Coast Guard license suitable for the vessel's route and service. He or she must have the license in his or her possession and must produce it immediately upon the request of a Coast Guard boarding officer.

PART 30—GENERAL PROVISIONS

45. The authority citation for part 30 continues to read as follows:

Authority: 46 U.S.C. 2103, 3306, 3703; 49 U.S.C. 5103, 5106; 49 CFR 1.45, 1.46; Section 30.01-2 also issued under the authority of 44 U.S.C. 3507; Section 30.01-05 also issued under the authority of Sec. 4109, Pub. L. 101-380, 104 Stat. 515.

46. In § 30.01-5(d), redesignate table 30.01-5(D) as table 30.01-5(d) and revise it to read as follows:

§ 30.01-5 Application of regulations—TB/ALL.

* * * * *

(d) * * *

BILLING CODE 4910-15-U

BILLING CODE 4910-15-C

PART 70—GENERAL PROVISIONS

47. The authority citation for part 70 continues to read as follows:

Authority: 46 U.S.C. 3306, 3703; 49 U.S.C. 5103, 5106; E.O. 12234, 45 FR 58801, 3 CFR, 1980 Comp., p. 277; 49 CFR 1.45, 1.46; Section 70.01-15 also issued under the authority of 44 U.S.C. 3507.

48. In § 70.05-1, redesignate table 70.05-1(A) as table 70.05-1(a) and revise it to read as follows:

BILLING CODE 4910-15-U

BILLING CODE 4910-15-C

49. Add § 70.05-18 to read as follows:

§ 70.05-18 Applicability to Vessels Operating Under an Exemption Afforded in the Passenger Vessel Safety Act of 1993 (PVSA).

(a) The Passenger Vessel Safety Act of 1993 (PVSA) contained an allowance for the exemption of certain passenger vessels that are—

(1) At least 100 gross tons but less than 300 gross tons; or (2) Former public vessels of at least 100 gross tons but less than 500 gross tons.

(b) The owner or operator of a vessel must have applied for an exemption under the PVSA by June 21, 1994, and then brought the vessel into compliance with the interim guidance in Navigation and Inspection Circular (NVIC) 7-94 not later than December 21, 1996. The PVSA exemption is valid for the service life of the vessel, as long as the vessel remains certified for passenger service. If the Certificate of Inspection (COI) is surrendered or otherwise becomes invalid (not including a term while the vessel is out of service but undergoing an inspection for recertification), the owner or operator must meet the appropriate inspection regulations to obtain a new COI without the PVSA exemption. See 46 CFR 175.118 for information about applicable regulations for vessels that operate under the PVSA exemption.

50. Revise subpart 70.10 to read as follows:

Subpart 70.10—Definition of Terms Used in This Subchapter.

Sec.
70.10-1 Definitions.

§ 70.10-1 Definitions.

Approved means approved by the Commandant, unless otherwise stated.

Barge means any non-self-propelled vessel.

Carrying freight for hire means the carriage of any goods, wares, or merchandise, or any other freight for a consideration whether directly or indirectly flowing to the owner, charterer, operator, agent, or any other person interested in the vessel.

Classed vessel means any vessel classed by the American Bureau of Shipping or other recognized classification society.

Coast Guard District Commander means an officer of the Coast Guard designated as such by the Commandant to command all Coast Guard activities within his or her district, which include the inspection, enforcement, and administration of Subtitle II, Title 46 U.S. Code, Title 46 and Title 33 U.S. Code, and regulations issued under these statutes.

Coastwise is a designation of service that includes all vessels normally navigating the waters of any ocean or the Gulf of Mexico 20-nautical miles or less offshore.

Commandant means the Commandant of the United States Coast Guard.

Consideration means an economic benefit, inducement, right, or profit including pecuniary payment accruing to an individual, person, or entity but not including a voluntary sharing of the actual expenses of the voyage, by monetary contribution or donation of fuel, food, beverage, or other supplies.

Ferry is a designation that includes those vessels, in other than ocean or coastwise service, having provisions only for deck passengers and/or vehicles, operating on a short run, on a frequent schedule between two points over the most direct water route, and offering a public service of a type normally attributed to a bridge or tunnel.

Great Lakes is a designation of service that includes all vessels navigating the Great Lakes.

Headquarters means the Office of the Commandant, United States Coast Guard, Washington, DC 20593.

Lakes, bays, and sounds is a designation of service that includes all vessels navigating the waters of the lakes, bays, or sounds other than the waters of the Great Lakes.

Marine inspector or inspector means any person from the civilian or military branch of the Coast Guard assigned under the direction of an Officer in Charge, Marine Inspection, or any other person designated to perform duties related to the inspection, enforcement, and administration of Subtitle II, Title 46 U.S. Code, Title 46 and Title 33 U.S. Code, and regulations issued under these statutes.

Motor vessel means any vessel more than 65 feet in length, which is propelled by machinery other than steam.

Ocean is a designation of service that includes all vessels navigating the waters of any ocean or the Gulf of Mexico more than 20-nautical miles offshore.

Officer in Charge, Marine Inspection means any person from the civilian or military branch of the Coast Guard designated as such by the Commandant and who, under the direction of the Coast Guard District Commander, is in charge of an inspection zone for the performance of duties related to the inspection, enforcement, and administration of Subtitle II, Title 46 U.S. Code, Title 46 and Title 33 U.S. Code, and regulations issued under these statues.

Passenger means—

(1) On an international voyage, every person other than—

(i) The master and the members of the crew or other persons employed or engaged in any capacity onboard a vessel on the business of that vessel; and

(ii) A child under the age of one.

(2) On other than an international voyage, an individual carried on the vessel, except—

(i) The owner or an individual representative of the owner or, in the case of a vessel under charter, an individual charterer or individual representative of the charterer;

(ii) The master; or

(iii) A member of the crew engaged in the business of the vessel, who has not contributed consideration for carriage, and who is paid for onboard services.

Passenger-for-hire means a passenger for whom consideration is contributed as a condition of carriage on the vessel, whether directly or indirectly flowing to the owner, charterer, operator, agent, or any other person having an interest in the vessel.

Passenger vessel means

(1) On an international voyage, a vessel of at least 100 tons gross tonnage carrying more than 12 passengers; and

(2) On other than an international voyage, a vessel of at least 100 tons gross tonnage—

(i) Carrying more than 12 passengers, including at least one passenger-for-hire;

(ii) That is chartered and carrying more than 12 passengers; or

(iii) That is a submersible vessel and carrying at least one passenger-for-hire.

Pilot boarding equipment means a pilot ladder, accommodation ladder, pilot hoist, or combination of them, as required by this subchapter.

Point of access means the place on the deck of a vessel where a person steps onto or off pilot boarding equipment.

Recognized classification society means the American Bureau of Shipping or other classification society as recognized by the Commandant.

Rivers is a designation of service that includes all vessels whose navigation is restricted to rivers and/or canals, and to such other waters as may be designated by the Coast Guard District Commander.

Sailing vessel means a vessel with no mechanical means of propulsion, all propulsive power being provided by sails.

Short international voyage means an international voyage in the course of which a vessel is not more than 200 miles from a port or place in which the passengers and crew could be placed in safety. Neither the distance between the last port of call in the country in which the voyage begins and the final port of destination, nor the return voyage, may exceed 600 miles. The final port of destination is the last port of call in the scheduled voyage at which the vessel commences its return voyage to the country in which the voyage began.

Specially suitable for vehicles is a designation used for a space that is designed for the carriage of automobiles or other self-propelled vehicles with batteries connected and fuel tanks containing gasoline on vessels on ocean or unlimited coastwise voyages. Requirements for the design and protection of spaces specially suitable for vehicles appear in subparts 72.15, 76.15, 77.05, 78.45, 78.47, and 78.83 of parts 72, 76, 77 and 78 of this subchapter. In addition, preparation of automobiles prior to carriage, with the exception of disconnecting battery cables, must be in accordance with the applicable provision of 49 CFR 176.905.

Submersible vessel means a vessel that is capable of operating below the surface of the water.

Vessel, as used in this subchapter, shall be considered to include all vessels indicated in column three of table 70.05-1(a) in § 70.05-1, which are greater than 65 feet in length (measured from end-to-end over the deck, excluding sheer) and carrying more than six passengers-for-hire, unless otherwise noted in this subpart.

PART 90—GENERAL PROVISIONS

51. The authority citation for part 90 continues to read as follows:

Authority: 46 U.S.C. 3306, 3703; 49 U.S.C. 5103, 5106; E.O. 12234, 45 FR 58801, 3 CFR, 1980 Comp., p. 277; 49 CFR 1.46.

52. In § 90.05-1(a), redesignate table 90.05-1(A) as table 90.05-1(a) and revise it to read as follows:

BILLING CODE 4910-15-U

BILLING CODE 4910-15-C

PART 114—GENERAL PROVISIONS

53. The authority citation for part 114 continues to read as follows:

Authority: 46 U.S.C. 2103, 3306, 3703; 49 U.S.C. App. 1804; 49 CFR 1.45, 1.46. Sec. 114.900 also issued under 44 U.S.C. 3507.

54. In § 114.400(b), add, in alphabetical order, the term “Submersible vessel” to the list of definitions, to read as follows:

§ 114.400 Definition of terms used in this subchapter.

* * * * *

Submersible vessel means a vessel that is capable of operating below the surface of the water.

* * * * *

PART 169—SAILING SCHOOL VESSELS

55. The authority citation for part 169 continues to read as follows:

Authority: 33 U.S.C. 1321(j); 46 U.S.C. 3306, 6101; E.O. 11735, 38 FR 21243, 3 CFR, 1971-1975 Comp., p. 793; 49 CFR 1.45, 1.46; § 169.117 also issued under the authority of 44 U.S.C. 3507.

56. Revise § 169.103(a) and (b) to read as follows:

§ 169.103 Applicability.

(a) This subchapter applies to each domestic vessel operating as a sailing school vessel.

(b) This subchapter does not apply to—

(1) Any vessel operating exclusively on inland waters which are not navigable waters of the United States;

(2) Any vessel while laid up, dismantled, and out of service;

(3) Any vessel with title vested in the United States and which is used for public purposes except vessels of the U.S. Maritime Administration;

(4) Any vessel carrying one or more passengers;

(5) Any vessel operating under the authority of a current valid certificate of inspection issued in accordance with the requirements of 46 CFR chapter I, subchapter H or T, 46 CFR parts 70 through 78 and parts 175 through 187, respectively; or

(6) Any foreign vessel.

* * * * *

57. In § 169.107, remove paragraph (f) and redesignate paragraphs (g), (h), (i), (j), (k), (l), (m), (n), (o), (p), (q), (r), (s), (t), (u), (v), (w), (x), and (y) as paragraphs (f), (g), (h), (i), (j), (k), (l), (m), (n), (o), (p), (q), (r), (s), (t), (u), (v), (w), and (x), respectively; and revise the newly redesignated § 169.107(n) to read as follows:

§ 169.107 Definitions.

* * * * *

(n) Passenger on a sailing school vessel, means an individual carried on the vessel except—

(1) The owner or an individual representative of the owner or, in the case of a vessel under charter, an individual charterer or individual representative of the charterer;

(2) The master;

(3) A member of the crew engaged in the business of the vessel, who has not contributed consideration for carriage, and who is paid for onboard services;

(4) An employee of the owner of the vessel engaged in the business of the owner, except when the vessel is operating under a demise charter;

(5) An employee of the demise charterer of the vessel engaged in the business of the demise charterer; or

(6) A sailing school instructor or sailing school student.

* * * * *

PART 175—GENERAL PROVISIONS

58. The authority citation for part 175 continues to read as follows:

Authority: 46 U.S.C. 2103, 3205, 3306, 3703; 49 U.S.C. App. 1804; 49 CFR 1.45, 1.46; 175.900 also issued under authority of 44 U.S.C. 3507.

59. Add § 175.118 to read as follows:

§ 175.118 Vessels operating under an exemption afforded in the Passenger Vessel Safety Act of 1993 (PVSA).

(a) The Passenger Vessel Safety Act of 1993 (PVSA) contained an allowance for the exemption of certain passenger vessels that are—

(1) At least 100 gross tons but less than 300 gross tons; or

(2) Former public vessels of at least 100 gross tons but less than 500 gross tons.

(b) The owner or operator of a vessel must have applied for an exemption under PVSA by June 21, 1994, and then brought the vessel into compliance with the interim guidance in Navigation and Inspection Circular (NVIC) 7-94 not later than December 21, 1996. The PVSA exemption is valid for the service life of the vessel, as long as the vessel remains certified for passenger service. If the Certificate of Inspection (COI) is surrendered or otherwise becomes invalid (not including a term while the vessel is out of service but undergoing an inspection for recertification), the owner or operator must meet the appropriate inspection regulations to obtain a new COI without the PVSA exemption.

(c) Except where the provisions of 46 CFR chapter I, subchapter H apply, the owner or operator must ensure that the vessel meets the requirements of 46 CFR chapter I, subchapter T, meets any requirements the OCMI deems applicable, and meets any specific additions or exceptions as follows:

(1) If a vessel does not meet the intact stability requirements of 46 CFR chapter I, subchapter S, the vessel's route(s) will be limited to an area within 20-nautical miles from a harbor of safe refuge, provided the vessel has a history of safe operation on those waters. The OCMI may further restrict the vessel's routes if the vessel's service history, condition, or other factors affect its seaworthiness or safety.

(2) The vessel may not carry more than 150 passengers, and not more than 49 passengers in overnight accommodations.

(3) The owner or operator must crew the vessel under the requirements in 46 CFR chapter I, subchapter T. All officers must be licensed for the appropriate vessel tonnage. The OCMI may require a licensed engineer for those vessels of at least 200 gross tons. Vessels carrying more than 50 passengers must have an additional deckhand, and all deckhands on vessels carrying more than 50 passengers must be adequately trained. The crew members on a vessel of at least 200 gross tons, except those operated exclusively on lakes and rivers, are required to hold merchant mariner documents and 50 percent of the unlicensed deck crew must be rated as at least an able seaman.

(4) The vessel owner or operator must comply with the lifesaving arrangements located in 46 CFR part 180, except that inflatable liferafts are required for primary lifesaving. A rescue boat or suitable rescue arrangement must be provided to the satisfaction of the OCMI.

(5) The vessel owner or operator must comply with the fire protection requirements located in 46 CFR part 181. When a vessel fails to meet the fire protection and structural fire protection requirements of 46 CFR chapter I, subchapter T, the vessel owner or operator must meet equivalent requirements to the satisfaction of the cognizant OCMI or submit plans for approval from the Coast Guard Marine Safety Center.

(6) At a minimum, the owner or operator must outfit the vessel with portable fire extinguishers in compliance with 46 CFR 76.50. In addition, the vessel must meet any additional requirements of the OCMI, even if they exceed the requirements in 46 CFR 76.50.

(7) In addition to the means-of-escape requirements of 46 CFR 177.500, the vessel owner or operator must also meet the requirements for means of escape found in 46 CFR 78.47-40.

(d) The OCMI conducts an inspection and may issue a COI if the vessel meets these requirements. The COI's condition of operation must contain the following endorsement: “This vessel is operating under an exemption afforded in The Passenger Vessel Safety Act of 1993 and as such is limited to domestic voyages and a maximum of __ passengers and may be subject to additional regulations and restrictions as provided for in Sections 511 and 512 of the Act.”

60. In § 175.400, add a new term to the list of definitions, in alphabetical order, to read as follows:

§ 175.400 Definition of terms used in this subchapter.

* * * * *

Submersible vessel means a vessel that is capable of operating below the surface of the water.

* * * * *

PART 188—GENERAL PROVISIONS

61. The authority citation for part 188 continues to read as follows:

Authority: 46 U.S.C. 2113, 3306; 49 U.S.C. 5103, 5106; E.O. 12234, 45 FR 58801, 3 CFR, 1980 Comp., p. 277; 49 CFR 1.46.

62. In § 188.05-1(a), redesignate table 188.05-1(A) as table 188.05-1(a) and revise it to read as follows:

BILLING CODE 4910-15-U

BILLING CODE 4910-15-C

PART 199—LIFESAVING SYSTEMS FOR CERTAIN INSPECTED VESSELS

63. The authority citation for part 199 continues to read as follows:

Authority: 46 U.S.C. 3306, 3703; 46 CFR 1.46.

64. In § 199.30, revise the term “passenger vessel”.

§ 199.30 Definitions.

* * * * *

Passenger vessel means—

(1) On an international voyage, a vessel of at least 100 tons gross tonnage carrying more than 12 passengers; and

(2) On other than an international voyage, a vessel of at least 100 tons gross tonnage—

(i) Carrying more than 12 passengers, including at least one passenger-for-hire; or

(ii) That is chartered and carrying more than 12 passengers; or

(iii) That is a submersible vessel carrying at least one passenger-for-hire.

* * * * *

Dated: March 24, 2000.
Joseph J. Angelo,
Acting Assistant Commandant for Marine Safety and Environmental Protection.

[FR Doc. 00-4777 Filed 3-1-00; 8:45 am]

BILLING CODE 4910-15-U